DEPARTMENT OF HEALTH AND HUMAN SERVICES

Centers for Disease Control and Prevention

Solicitation of Nominations for Appointment to the Communications and Public Engagement Workgroup (CPEW) of the Advisory Committee to the Director (ACD), CDC

ACTION: Notice.

SUMMARY: The Centers for Disease Control and Prevention (CDC), within the Department of Health and Human Services (HHS), is seeking nominations for membership to the Communications and Public Engagement Workgroup (CPEW) of the Advisory Committee to the Director, CDC. The CPEW workgroup consists of approximately 15 members who are experts in the fields associated with communications, including public relations, health communication, risk communication, communication research, and marketing; community and partner engagement; public health science and practice, including implementation; and behavioral science/behavior change campaigns.

DATES: Nominations for membership on the CPEW workgroup must be received no later than March 28, 2024. Late nominations will not be considered for membership.

ADDRESSES: All nominations (cover letters and curriculum vitae) should be emailed to ACDirector@cdc.gov with the subject line: “Nomination for CDC ACD Communications and Public Engagement Workgroup.”

FOR FURTHER INFORMATION CONTACT: Kate Galatas, MPH, Senior Communications Specialist, Office of Communications, Centers for Disease Control and Prevention, 1600 Clifton Road (MS H21-11), Atlanta, GA 30329-4027, Telephone: (404) 639-2064; Email: ACDirector@cdc.gov.

SUPPLEMENTARY INFORMATION:

Background: The purpose of the ACD, CDC Advisory Committee to the Director shall (1) make recommendations to the Director regarding ways to prioritize the activities of the agency in alignment with the CDC Strategic Plan required under section 305(c); H.R. 2617-1252; (2) advise on ways to achieve or improve performance metrics in relation to the CDC Strategic Plan, and other relevant metrics, as appropriate; (3) provide advice and recommendations on the development of the Strategic Plan, and any subsequent updates, as appropriate; (4) advise on grants, cooperative agreements, contracts, or other transactions, as applicable; (5) provide other advice to the Director, as requested, to fulfill duties under sections 301 and 311; and (6) appoint subcommittees. The ACD, CDC consists of up to 15 non-federal members, including the Chair, knowledgeable in areas pertinent to the CDC mission, such as health policy, public health, global health, preparedness, preventive medicine, the faith-based and community-based sector, and allied fields.

Purpose: The establishment and formation of the ACD, Communications and Public Engagement Workgroup (CPEW) is to provide input to the Committee on agency-wide activities related to how CDC communicates directly and more effectively with the public, with a focus on reaching local communities with messages. Effective communication with the public includes, but is not limited to: (1) building relationships and mechanisms to communicate via trusted messengers, including but not limited to, clinicians, faith and community leaders, and health department officials at the national, state and local levels; (2) improving risk communication practices; (3) delivering more action-oriented and focused communications to help people protect their health (e.g., effective messages and storytelling); (4) tailoring our messages and communications methods, as appropriate, to audiences, particularly for historically marginalized communities; and (5) increasing transparency by stepping up the pace, content and reach of our communications (e.g., considering impact of different communications channels, such as blogs, TV interviews, emerging platforms).

The CPEW membership consists of approximately 15 members. It is co-chaired by two current ACD, CDC Special Government Employees. The CPEW co-chairs will present their findings, observations, and work products at one or more ACD, CDC meetings for discussion, deliberation, and decisions (final recommendations to CDC).

Nomination Criteria: CPEW members will serve terms ranging from six months to one year and be required to attend CPEW meetings approximately once per month (virtually or in person), and contribute time in between meetings for research, consultation, discussion, and writing assignments.

Nominations are being sought for individuals who have the expertise and qualifications necessary to contribute to the accomplishments of the committee's/workgroup's objectives. Nominees will be selected based on expertise in the fields of communications, including public relations, health communication, risk communication, communication research, and marketing; community and partner engagement; public health science and practice, including implementation; and behavioral science/behavior change campaigns. Federal employees will not be considered for membership. Selection of members is based on candidates' qualifications to contribute to the accomplishment of the CPEW's objectives.

HHS policy stipulates that membership be balanced in terms of points of view represented and the workgroup's function. Appointments shall be made without discrimination based on age, race, ethnicity, gender, sexual orientation, gender identity, HIV status, disability, and cultural, religious, or socioeconomic status. Nominees must be U.S. citizens and cannot be full-time employees of the U.S. Government. Current participation on federal workgroups or prior experience serving on a federal advisory committee does not disqualify a candidate; however, HHS policy is to avoid excessive individual service on advisory committees and multiple committee memberships. Interested candidates should submit the following items:

• A one-half to one-page cover letter that includes your understanding of, and commitment to, the time and work necessary; one to two sentences on your background and experience; and one to two sentences on the skills/perspective you would bring to the CPEW.

• At least one letter of recommendation from person(s) not employed by the U.S. Department of Health and Human Services. (Candidates may submit letter(s) from current HHS employees if they wish, but at least one letter must be submitted by a person not employed by an HHS agency (e.g., CDC, NIH, FDA, etc.).

• Current curriculum vitae which highlights the experience and work history being sought relevant to the criteria set forth above, including complete contact information (telephone numbers, mailing address, email address).

Nominations may be submitted by the candidate him or herself, or by the person/organization recommending the candidate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-04430 Filed 3-1-24; 8:45 am]

BILLING CODE 4163-18-P